DEPARTMENT OF COMMERCE

Census Bureau

National Advisory Committee on Racial, Ethnic, and Other Populations; Charter Renewal

AGENCY: Census Bureau, U.S. Department of Commerce.

ACTION: Renewal of the Census Bureau National Advisory Committee charter.

SUMMARY: The Census Bureau is publishing this notice to announce the renewal of the National Advisory Committee on Racial, Ethnic, and Other Populations (Committee or NAC). The purpose of the Committee is to provide advice to the Director of the Census Bureau on the full range of Census Bureau programs and activities, including the decennial census, demographic and economic statistical programs, field operations, and information technology. Additional information concerning the Committee can be found by visiting the Committee's website at: http://www.census.gov/cac.

FOR FURTHER INFORMATION CONTACT: Shana J. Banks, Advisory Committee Branch Chief, Office of Program, Performance and Stakeholder Integration (PPSI), shana.j.banks@census.gov, Department of Commerce, Census Bureau, telephone 301-763-3815. For TTY callers, please use the Federal Relay Service at 1-800-877-8339.

SUPPLEMENTARY INFORMATION:

Background

In accordance to the Federal Advisory Committee Act (FACA), the Secretary of the Department of Commerce (Secretary) intends to renew the NAC. The Secretary has determined that the work of the Committee is in the public interest and relevant to the duties of the Census Bureau. The NAC will operate under the provisions of FACA and will report to the Secretary of the Department of Commerce through the Director of the Census Bureau. The Census Bureau's NAC will advise the Director of the Census Bureau on the full range of Census Bureau programs and activities.

Objectives and Duties

1. The Committee advises the Director of the Census Bureau (the Director) on the full range of economic, housing, demographic, socioeconomic, linguistic, technological, methodological, geographic, behavioral, and operational variables affecting the cost, accuracy, and implementation of Census Bureau programs and surveys, including the decennial census.

2. The Committee advises the Census Bureau on the identification of new strategies for improved census operations, and survey and data collection methods, including identifying cost efficient ways to increase response rates.

3. The Committee provides guidance on census policies, research and methodology, tests, operations, communications/messaging, and other activities to ascertain needs and best practices to improve censuses, surveys, operations, and programs.

4. The Committee reviews and provides formal recommendations and feedback on working papers, reports, and other documents related to the design and implementation of Census Bureau programs and surveys.

5. In providing insight, perspectives, and expertise on the full spectrum of Census Bureau surveys and programs, the Committee examines such areas as hidden households, language barriers, students and youth, aging populations, American Indian and Alaska Native tribal considerations, new immigrant populations, populations affected by natural disasters, highly mobile and migrant populations, complex households, poverty, race/ethnic distribution, privacy and confidentiality, rural populations and businesses, individuals and households with limited access to information and communications technologies, the dynamic nature of new businesses, minority ownership of businesses, as well as other concerns impacting Census Bureau survey design and implementation.

6. The Committee uses formal advisory committee meetings, webinars, web conferences, working groups, and other methods to accomplish its goals, consistent with the requirements of the FACA. The Committee will consult with regional office staff to help identify regional, local, tribal and grass roots issues, trends and perspectives related to Census Bureau surveys and programs.

7. The Committee will function solely as an advisory body and shall fully comply with the provisions of FACA.

Membership

1. The Committee consists of up to 32 members who serve at the discretion of the Director.

2. The Committee aims to have a balanced representation among its members, considering such factors as geography, age, sex, race, ethnicity, technical expertise, community involvement, and knowledge of census programs and/or activities.

3. The Committee aims to include members from diverse backgrounds, including state, local and tribal governments; academia; research, national and community-based organizations; and labor unions and the private sector.

4. Members will serve as Special Government Employees (SGEs). SGEs will be subject to the ethics rules applicable to SGEs. Members will be individually advised of the capacity in which they will serve through their appointment letters.

5. SGEs will be selected from academia, public and private enterprise, and nonprofit organizations, which are further diversified by business type or industry, geography, and other factors.

6. Membership is open to persons who are not seated on other Census Bureau stakeholder entities (i.e., State Data Centers, Census Information Centers, Federal State Cooperative on Populations Estimates Program, other Census Advisory Committees, etc.). People who have already served one full-term on a Census Bureau Advisory Committee may not serve on any other Census Bureau Advisory Committee for three years from the termination of previous service. No employee of the federal government can serve as a member of the Committee.

7. Members will serve for a three-year term. All members will be reevaluated at the conclusion of their initial term term with the prospect of renewal, pending Committee needs. Active attendance and participation in meetings and activities (e.g., conference calls and assignments) will be factors considered when determining term renewal or membership continuance. Members may be appointed for a second three-year term at the discretion of the Director.

8. Members will be selected on a standardized basis, in accordance with applicable Department of Commerce guidance.

Miscellaneous

1. Members of the Committee serve without compensation, but receive reimbursement for Committee-related travel and lodging expenses.

2. The Census Bureau will convene two NAC meetings per year, budget and environmental conditions permitting, but additional meetings may be held as deemed necessary by the Census Bureau Director or Designated Federal Officer. Committee meetings are open to the public in accordance with FACA.

3. Members must be able to actively participate in the tasks of the Committee, including, but not limited to, regular meeting attendance, Committee meeting discussant responsibilities, review of materials, as well as participation in conference calls, webinars, working groups, and/or special committee activities.

4. The Department of Commerce is committed to equal opportunity in the workplace and seeks diverse Committee membership.

Robert L. Santos,
Director, Census Bureau, approved the publication of this Notice in the Federal Register.
Dated: April 7, 2022.
Sheleen Dumas,
Department PRA Clearance Officer, Office of the Chief Information Officer, Commerce Department.

[FR Doc. 2022-07820 Filed 4-12-22; 8:45 am]

BILLING CODE 3510-07-P